DEPARTMENT OF COMMERCE

National Oceanic and Atmospheric Administration

RIN 0648-XX23

Marine Mammals; File No. 15483

AGENCY: National Marine Fisheries Service (NMFS), National Oceanic and Atmospheric Administration (NOAA), Commerce.

ACTION: Notice; receipt of application.

SUMMARY: Notice is hereby given that Bruce Mate, Ph.D., Oregon State University, Hatfield Marine Science Center, Newport, OR has applied in due form for a permit to conduct research on marine mammals.

DATES: Written, telefaxed, or e-mail comments must be received on or before August 12, 2010.

ADDRESSES: The application and related documents are available for review by selecting “Records Open for Public Comment” from the Features box on the Applications and Permits for Protected Species (APPS) home page, https://apps.nmfs.noaa.gov, and then selecting File No. 15483 from the list of available applications.

These documents are also available upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Kristy Beard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to test the effectiveness of an acoustic deterrent at keeping gray whales (Eschrictius robustus) migrating past the coast of central Oregon between January and mid-April away from wave energy buoys, which may pose a collision or entanglement risk to the whales. During the experiment, gray whales and other marine mammals may be taken by Level B harassment as researchers attempt to provoke an avoidance response through sound transmission into their environment. The sound source consists of a transmitter and projector connected to a 12V 1000AHr battery. The sound will have peak efficiency in the 1-3 kHz (1,000-3,000 Hz) range and a maximum source level of 170 dB re: 1 μPa at 1 m. The signal will consist of a pulse up to 1 second in duration with a pulse rate of 3 pulses per minute. The acoustic device will operate during daylight hours only. Animals will be tracked and monitored by shore-based observers. The source level used in this study is not expected to cause injury to gray whales or other animals in the study area. Researchers expect short-term, short-distance deflection of migratory trajectories as gray whales adjust their bearing to avoid received sound pressure levels greater than 120 dB, which would occur within 750 m from the source. The applicant requests authorization to harass up to 2260 gray whales annually. The applicant also requests authorization to incidentally harass up 364 harbor porpoise (Phocoena phocoena), 14 each of Southern Resident and West Coast Transient killer whales (Orcinus orca), 508 harbor seals (Phoca vitulina), 8 California sea lions (Zalophus californianus), 4 Eastern Distinct Population Segment Steller sea lions (Eumetopias jubatus), and 4 Northern elephant seals (Mirounga angustirostris) annually during the experiment.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 7, 2010.
Tammy C. Adams,
Acting Chief, Permits, Conservation and Education Division, Office of Protected Resources, National Marine Fisheries Service.

[FR Doc. 2010-17053 Filed 7-12-10; 8:45 am]

BILLING CODE S